DEPARTMENT OF THE INTERIOR

National Park Service

Notice of Inventory Completion for Native American Human Remains and Associated Funerary Objects in the Possession of the U.S. Department of the Interior, National Park Service, Death Valley National Park, Death Valley, CA and NV

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Death Valley National Park, Death Valley, CA and NV.

This notice is published as part of the National Park Service's administrative responsibilities under NAGPRA, 43 CFR 10.2 (c). The determinations within this notice are the sole responsibility of the National Park Service unit that has control or possession of these Native American human remains. The Manager of the National NAGPRA Program is not responsible for the determinations within this notice.

A detailed assessment of the human remains and associated funerary objects was made by National Park Service professional staff in consultation with the Big Pine Band of Owens Valley Paiute Shoshone Indians of the Big Pine Reservation, California; Chemehuevi Indian Tribe of the Chemehuevi Reservation, California; Death Valley Timbi-Sha Shoshone Band of California; Duckwater Shoshone Tribe of the Duckwater Reservation, Nevada; Ely Shoshone Tribe of Nevada; Fort Independence Indian Community of Paiute Indians of the Fort Independence Reservation, California; Las Vegas Tribe of Paiute Indians of the Las Vegas Indian Colony, Nevada; Moapa Band of Paiute Indians of the Moapa River Indian Reservation, Nevada; Paiute-Shoshone Indians of the Bishop Community of the Bishop Colony, California; Paiute-Shoshone Tribe of the Fallon Reservation and Colony, Nevada; Paiute-Shoshone Indians of the Lone Pine Community of the Lone Pine Reservation, California; Pyramid Lake Paiute Tribe of the Pyramid Lake Reservation, Nevada; Reno-Sparks Indian Colony, Nevada; Walker River Paiute Tribe of the Walker River Reservation, Nevada; and Yerington Paiute Tribe of the Yerington Colony & Campbell Ranch, Nevada. A representative of the Kawaiisu, a nonfederally recognized Indian group, was also consulted.

The National Park Service contracted with LSA Associates, Inc., of Irvine, CA, to assist in compliance with NAGPRA. The LSA study, Death Valley National Park Cultural Affiliation Study (1998), evaluated all collections from the area previously administered as U.S. Department of the Interior, Death Valley National Monument. In 1995, additional lands formerly under the control of the U.S. Department of the Interior, Bureau of Land Management were transferred to Death Valley National Park. Collections from these new lands have not been fully evaluated by the National Park Service at this time.

In 1953, human remains representing one individual were recovered during legally authorized excavations by William Wallace at site CA-INY-1034 near Mesquite Flat, Inyo County, CA. This individual had been cremated. No known individual was identified. The one associated funerary object is a chert projectile point. The associated funerary object indicates that these human remains probably were cremated during the Death Valley III or IV period (A.D. 1-1870).

In 1953, human remains representing one individual were recovered during legally authorized excavations by William Wallace at site CA-INY-1137 near Mesquite Flat, Inyo County, CA. This individual had been cremated. No known individual was identified. The five associated funerary objects are three manos, one chert drill, and one bag of glass beads. The associated funerary objects indicate that these human remains probably were cremated during the Death Valley IV period (A.D. 1000-1870).

In 1954, human remains representing one individual were recovered during legally authorized excavations by William Wallace at a site (no trinomial) near Wingate Wash, in either Inyo or San Bernardino County, CA. This individual was found in a previously disturbed site. No known individual was identified. The two associated funerary objects are two lithic quarry blanks. Mr. Wallace noted that an archaic type projectile was found in association with the burial and thus assigned this burial to the Death Valley II period (3000 B.C.-A.D. 1). This projectile point has not been found in the park's collections.

In 1954, human remains representing one individual were recovered during legally authorized excavations by William Wallace at site CA-INY-1239, Inyo County, CA. This individual had been cremated and was found at the base of a sand dune. No known individual was identified. The three associated funerary objects are two ceramic potsherds and one bag of glass beads. The associated objects indicate that these human remains probably were cremated during the Death Valley IV period (A.D. 1000-1870).

In 1954, human remains representing one individual were recovered during legally authorized excavations by William Wallace at site CA-INY-1215 near Mesquite Flat, Inyo County, CA. This individual had been cremated. No known individual was identified. The one associated funerary object is a lithic uniface fragment. The associated funerary object indicates that these human remains probably were cremated during the Death Valley III or IV Period (A.D. 1-1870).

In 1954, human remains representing one individual were recovered during legally authorized excavations by William Wallace at site CA-INY-1234 near Mesquite Flat, Inyo County, CA. This individual had been cremated. No known individual was identified. The 144 associated funerary objects are 10 shell beads, 3 stone pestle fragments, 6 manos, 1 pecking stone, 1 stone hammer, 1 stone pendant, 1 arrow shaft smoother, 1 smoothing stone, 2 corner notched chert projectile points (1 rosespring type and 1 possible elko type), 1 obsidian drill, 48 ceramic potsherds, 1 iron angle brace, 2 metal overall buttons, 2 pieces of window glass, 2 glass bottle fragments, 60 whole and fragmented glass beads, and 2 clay coils. The associated funerary objects indicate that these human remains probably were cremated during the Death Valley III or IV period (A.D. 1-1870).

In 1955, human remains representing one individual were recovered during legally authorized excavations by William Wallace and Edith Taylor at Hole-in-the-Rock rockshelter (no trinomial), Inyo County, CA. This individual was found wrapped in a rabbit-skin blanket and buried in the rockshelter. No known individual was identified. The nine associated funerary objects are five shell beads, one ceramic sherd scraper, one chopper, one hammerstone, and one fragmented rabbit-skin blanket or cloak. Mr. Wallace suggests that the site dates to the Death Valley III period. The associated funerary objects indicate that these human remains probably were buried sometime during the Death Valley III or IV period (A.D. 1-1870).

In 1955, human remains representing one individual were recovered during legally authorized excavations by William Wallace at site CA-INY-3328 near Mesquite Flat, Inyo County, CA. This individual had been cremated. No known individual was identified. The 23 associated funerary objects are 1 jar of glass beads, 7 rivets, 9 buttons, 3 overall clips, 1 projectile point, 1 mano, and 1 bag of glass beads. The associated funerary objects indicate that these human remains probably were cremated during the Death Valley IV period (A.D. 1000-1870).

In 1956, human remains representing four individuals were recovered during legally authorized excavations by William Wallace, Alice Hunt, and Edith Taylor at site CA-INY-522 near Tule Spring, Inyo County, CA. These individuals were found buried in a stone mound. No known individuals were identified. The 12 associated funerary objects are 3 projectile points (2 rosespring type and 1 unknown leaf-shaped point), 2 fragments of bone pendants, 1 bone awl, 4 fragments of a bone awl, 1 shell bead, and 1 lithic uniface. The associated funerary objects indicate that these human remains probably were buried during the Death Valley III period (A.D. 1-1000).

In 1956, human remains representing four individuals were recovered during legally authorized excavations by William Wallace, Alice Hunt, and Edith Taylor at site CA-INY-525 near Bennetts Well, Inyo County, CA. All four individuals were found buried in a rock mound. No known individuals were identified. The 45 associated funerary objects are 43 shell beads and 2 shells. The associated funerary objects indicate that these human remains probably were buried sometime during the Death Valley III period (A.D. 1-1000).

In 1956, human remains representing one individual were recovered during legally authorized excavations by William Wallace and Roger Desautels at site CA-SBR-90 near Saratoga Springs, San Bernardino County, CA. This individual was found buried in a bell-shaped pit. No known individual was identified. The seven associated funerary objects are three projectile point fragments (one rosespring or desert side-notched type and two of unknown type), three chert blade fragments, and one chert graver. The associated funerary objects indicate that these human remains probably were buried during the Death Valley III period (A.D. 1-1000).

In 1956, human remains representing one individual were recovered during legally authorized excavations by William Wallace at Old Crump rockshelter (site CA-INY-3044), Inyo County, CA. This individual was found buried in the rockshelter. No known individual was identified. The 42 associated funerary objects are 6 fragmented or complete stone blades, 8 fragmented or complete projectile points (including 2 cottonwood type, 1 rosespring type, and 5 of unknown type), 5 ceramic sherds, 3 bead fragments, 3 pendants, 2 awls, 3 mammal bone artifacts, 2 scrapers, 1 pipe fragment, 4 pine nut shells, 1 wood stick, 3 glass fragments, and 1 tin can fragment. The associated funerary objects indicate that these human remains probably were buried sometime during the Death Valley III or IV period (A.D. 1-1870).

In 1956, human remains representing one individual were recovered during legally authorized excavations by Alice Hunt at site CA-INY-793 near Tule Spring, Inyo County, CA. This individual was found buried in a stone mound. No known individual was identified. The two associated funerary objects are lithic bifaces. Similar Death Valley III and Death Valley IV burial sites located in this area and recorded by Ms. Hunt indicate that these human remains probably were buried during the Death Valley III or IV period (A.D. 1-1870).

In 1956, human remains representing one individual were recovered during legally authorized excavations by Alice Hunt at site CA-INY-582 near Tule Spring, Inyo County, CA. This individual was found buried in a stone mound. No known individual was identified. The one associated funerary object is a metal overall button. The associated funerary object indicates that these human remains probably were buried during the Death Valley IV period (A.D. 1000-1870).

In 1957, human remains representing one individual were recovered during legally authorized excavations by Alice Hunt at site CA-INY-896 near Gravel Well, Inyo County, CA. This individual was found buried in a stone mound. No known individual was identified. No funerary objects are present. Similar Death Valley III and Death Valley IV burial sites located in this area and recorded by Ms. Hunt indicate that these human remains probably were buried during the Death Valley III or IV period (A.D. 1-1870).

In 1957, human remains representing one individual were recovered during legally authorized excavations by Alice Hunt at site CA-INY-884 near Eagle Borax, Inyo County, CA. The individual was found buried in a stone mound. No known individual was identified. No funerary objects are present. Similar Death Valley III and Death Valley IV burial sites located in this area recorded by Ms. Hunt indicate that these human remains probably were buried during the Death Valley III or IV period (A.D. 1-1870).

In 1958, human remains representing one individual were recovered during legally authorized excavations by Alice Hunt at site CA-INY-3136 near Tule Spring, Inyo County, CA. This individual was found buried in a stone mound. No known individual was identified. No funerary objects are present. Similar Death Valley III and Death Valley IV burial sites located in this area and recorded by Ms. Hunt indicate that these human remains probably were buried during the Death Valley III or IV period (A.D. 1-1870).

In 1958, human remains representing one individual were recovered during legally authorized excavations by Alice Hunt at site Mound E (no trinomial) near Tule Spring, Inyo County, CA. The individual was found buried in a stone mound. No known individual was identified. No funerary objects are present. Similar Death Valley III and Death Valley IV burial sites located in this area and recorded by Ms. Hunt indicate that these human remains probably were buried during the Death Valley III or IV period (A.D. 1-1870).

In 1958, human remains representing one individual were recovered during legally authorized excavations by Alice Hunt at site CA-INY-3142 near Bennetts Well, Inyo County, CA. This individual was found buried in a stone mound. No known individual was identified. No funerary objects are present. Similar Death Valley III and Death Valley IV burial sites located in this area and recorded by Ms. Hunt indicate that these human remains probably were buried during the Death Valley III or IV period (A.D. 1-1870).

In 1958, human remains representing one individual were recovered during legally authorized excavations by Alice Hunt at site CA-INY-3137 near Tule Spring, Inyo County, CA. This individual had been cremated and was found buried in a stone mound. No known individual was identified. The four associated funerary objects are blue glass trade beads. The associated funerary objects indicate that these human remains probably were cremated during the Death Valley IV period (A.D. 1000-1870).

In 1959, human remains representing one individual were recovered during legally authorized excavations by Alice Hunt at site Mound C (no trinomial) near Tule Spring, Inyo County, CA. This individual was found buried in a stone mound. No known individual was identified. The two associated funerary objects are bird bones. Similar Death Valley III and Death Valley IV burial sites located in this area recorded by Ms. Hunt indicate that these human remains probably were buried during the Death Valley III or IV period (A.D. 1-1870).

Around 1960, human remains representing one individual were recovered during unauthorized excavations by Ken Robinson at an unspecified location within Death Valley National Monument. No known individual was identified. The 45 associated funerary objects are 6 worked sticks, 1 small animal trap, 1 rawhide strip, 2 basketry fragments, 1 ceramic potsherd, 1 nut shell, 2 metal buttons, 1 .36-caliber lead ball, 1 wooden fire drill platform, 13 pieces of cordage, 15 projectile points (11 cottonwood type, 1 desert side-notch type, 1 rosespring type, 1 that is either a rosespring type or a drill, and 1 unknown type), and 1 bifacial blade. Mr. Robinson transferred the human remains and associated funerary objects to the Maturango Museum in Ridgecrest, CA. The museum contacted the monument when they learned the origin of the human remains and associated funerary objects, and returned them to the monument in 1992. The associated funerary objects indicate that these human remains probably were buried sometime during the Death Valley III or IV Period (A.D. 1-1870).

The above-mentioned human remains were dated based on projectile point cross-dating, changes in burial practices, the presence of ceramics or trade beads, and other archeological evidence. The remains of one individual were dated to the Death Valley II period (3000 B.C.-A.D. 1) based on the presence of an archaic style projectile point. The remains of the other 27 individuals were dated to the Death Valley III or Death Valley IV periods (A.D. 1-1870). Alice Hunt suggests in Archeology of the Death Valley Salt Pan, California (1960) that during the early Death Valley II period, human remains were typically buried in pits in a flexed position, along with arrow points, bone tools, and shell beads, and covered with mounds of rock. This pattern continues into the Death Valley III period. William Wallace documented a shift to cremation during the Death Valley III and Death Valley IV periods in Death Valley National Monument's Prehistoric Past: An Archeological Overview (1977). Rock burial mounds also are a trait of the Death Valley IV occupation. Mr. Wallace interprets the shift in burial practices to reflect the arrival of a new population in the area that ultimately absorbed the original population and incorporated much of their culture. Mr. Wallace concludes that the resulting new population is the ancestors of the Panamint (Shoshone) Indians of historic times.

Relevant ethnographic research and oral traditions pertaining to language, social and political organization, subsistence strategies, resources and settlement patterns, trade and exchange, religion, ritualism, and ceremonialism further supports the archeological record. The LSA study concludes that "all of the archaeological sites located within Death Valley [National Park] and including human remains appear to be part of an unbroken archaeological tradition beginning circa 3000 B.C. and continuing through historic contact. Hence, without specific evidence to the contrary, all the archaeological material have probable affiliation with the Timbi-Sha Shoshone people who currently live in Death Valley."

Based on the above-mentioned information, the superintendent of Death Valley National Park has determined that, pursuant to 43 CFR 10.2 (d)(1), the human remains listed above represent the physical remains of 28 individuals of Native American ancestry. The superintendent of Death Valley National Park also has determined that, pursuant to 43 CFR 10.2 (d)(2), the 348 objects listed above are reasonably believed to have been placed with or near individual human remains at the time of death or later as part of the death rite or ceremony. Lastly, the superintendent of Death Valley National Park has determined that, pursuant to 43 CFR 10.2 (e), there is a relationship of shared group identity that can be reasonably traced between these Native American human remains and associated funerary objects and the Death Valley Timbi-Sha Shoshone Band of California.

This notice has been sent to officials of the Death Valley Timbi-Sha Shoshone Band of California. Representatives of any other Indian tribe that believes itself to be culturally affiliated with these human remains and associated funerary objects should contact James T. Reynolds, Superintendent, Death Valley National Park, P.O. Box 579, Death Valley, CA 92328, telephone (760) 786-2331, before February 11, 2002. Repatriation of the human remains and associated funerary objects to the Death Valley Timbi-Sha Shoshone Band of California may begin after that date if no additional claimants come forward.

Dated: November 20, 2001.
John Robbins,
Assistant Director, Cultural Resources Stewardship and Partnerships.

[FR Doc. 02-733 Filed 1-10-02; 8:45 am]

BILLING CODE 4310-70-S